DEPARTMENT OF COMMERCE

International Trade Administration

[A-357-820, A-560-830]

Biodiesel From Argentina and Indonesia: Final Results of Expedited Sunset Reviews of the Antidumping Duty Orders

AGENCY: Enforcement and Compliance, International Trade Administration, Department of Commerce.

SUMMARY: As a result of these expedited sunset reviews, the Department of Commerce (Commerce) finds that revocation of the antidumping duty (AD) orders on biodiesel from Argentina and Indonesia would be likely to lead to continuation or recurrence of dumping at the levels indicated in the “Final Results of Review” section of this notice.

DATES: Applicable April 4, 2023.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On December 1, 2022, Commerce published the notice of initiation of the sunset review of the AD orders on biodiesel from Argentina and Indonesia,¹ pursuant to section 751(c) of the Tariff Act of 1930, as amended (the Act).² On December 16, 2022, Commerce received a notice of intent to participate from the domestic interested party ³ for both of the Orders in accordance with 19 CFR 351.218(d)(1)(i).⁴ The domestic interested party claimed domestic interested party status under section 771(9)(F) of the Act, as an association a majority of whose members are manufacturers of domestic like product in the United States.⁵ On January 3, 2023, the domestic interested party submitted a timely substantive response for both sunset reviews within the 30-day deadline specified in 19 CFR 351.218(d)(3)(i).⁶ Commerce did not receive a substantive response from any other interested parties with respect to the Orders covered by these sunset reviews. On January 25, 2023, Commerce notified the U.S. International Trade Commission that it did not receive an adequate substantive response from respondent interested parties in either of these sunset reviews.⁷ As a result, pursuant to section 751(c)(3)(B) of the Act and 19 CFR 351.218(e)(1)(ii)(C)(2), Commerce conducted expedited (120-day) sunset reviews of these Orders.

¹ See Biodiesel from Argentina and Indonesia: Antidumping Duty Orders, 83 FR 18278 (April 26, 2018) (Orders).

² See Initiation of Five-Year (Sunset) Review, 87 FR 73757 (December 1, 2022).

³ The domestic interested party is the Clean Fuels Alliance Fair Trade Coalition (the Coalition). The Coalition consists of the following members: Ag Processing Inc. a Cooperative; Archer Daniels Midland Company; Clean Fuels Alliance Fair Trade Coalition; Cape Cod Biofuels; Clean Fuels Alliance America; Crimson Renewable Energy LP; Iowa Renewable Energy; LLC, Kolmar Americas, Inc.; Lake Erie Biofuels dba HERO BX, Minnesota Soybean Processors, Renewable Biofuels, LLC; Renewable Energy Group, Inc.; Seaboard Energy, Inc.; Thumb BioEnergy LLC; Western Dubuque Biodiesel, LLC; Western Iowa Energy, LLC; and World Energy, LLC.

⁴ See Domestic Interested Party's Letters, “Five-Year (“Sunset”) Review of Antidumping and Countervailing Duty Orders on Biodiesel from Argentina: Notice of Intent to Participate,” dated December 16, 2022; and “Five-Year (“Sunset”) Review of Antidumping and Countervailing Duty Orders on Biodiesel from Indonesia: Notice of Intent to Participate,” dated December 16, 2022.

⁵ Id.

⁶ See Domestic Interested Party's Letters, “Substantive Response of Domestic Producers to Notice of Initiation,” dated January 3, 2023 (Substantive Response Argentina); and “Substantive Response of Domestic Producers to Notice of Initiation,” dated January 3, 2023 (Substantive Response Indonesia).

⁷ See Commerce's Letter, “Sunset Reviews Initiated on December 2, 2022,” dated January 25, 2023.

Scope of the Orders

The product covered by these Orders is biodiesel, which is a fuel comprised of monoalkyl esters of long chain fatty acids derived from vegetable oils or animal fats, including biologically-based waste oils or greases, and other biologically-based oil or fat sources. These Orders cover biodiesel in pure form (B100) as well as fuel mixtures containing at least 99 percent biodiesel by volume (B99). For fuel mixtures containing less than 99 percent biodiesel by volume, only the biodiesel component of the mixture is covered by the scope of these Orders. Biodiesel is generally produced to American Society for Testing and Materials International (ASTM) D6751 specifications, but it can also be made to other specifications. Biodiesel commonly has one of the following Chemical Abstracts Service (CAS) numbers, generally depending upon the feedstock used: 67784-80-9 (soybean oil methyl esters); 91051-34-2 (palm oil methyl esters); 91051-32-0 (palm kernel oil methyl esters); 73891-99-3 (rapeseed oil methyl esters); 61788-61-2 (tallow methyl esters); 68990-52-3 (vegetable oil methyl esters); 129828-16-6 (canola oil methyl esters); 67762-26-9 (unsaturated alkylcarboxylic acid methyl ester); or 68937-84-8 (fatty acids, C12-C18, methyl ester). The B100 product subject to the Orders is currently classifiable under subheading 3826.00.1000 of the Harmonized Tariff Schedule of the United States (HTSUS), while the B99 product is currently classifiable under HTSUS subheading 3826.00.3000. Although the HTSUS subheadings, ASTM specifications, and CAS numbers are provided for convenience and customs purposes, the written description of the scope is dispositive.

Analysis of Comments Received

All issues raised in these sunset reviews are addressed in the Issues and Decision Memorandum, including the likelihood of continuation or recurrence of dumping and the magnitude of the margins of dumping likely to prevail if these Orders were revoked. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNotices/ListLayout.aspx.

Final Results of Sunset Reviews

Pursuant to sections 751(c) and 752(c) of the Act, Commerce determines that revocation of the Orders would be likely to lead to continuation or recurrence of dumping, and that the magnitude of the dumping margins likely to prevail would be weighted-average margins of up to 86.23 percent for Argentina and up to 276.65 percent for Indonesia.

Administrative Protective Order

This notice serves as the only reminder to parties subject to an administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notification to Interested Parties

We are issuing and publishing these final results in accordance with sections 751(c), 752(c), and 777(i)(1) of the Act, and 19 CFR 351.218(e)(1)(ii)(C)(2) and 19 CFR 351.221(c)(5)(ii).

Dated: March 29, 2023.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2023-06923 Filed 4-3-23; 8:45 am]

BILLING CODE 3510-DS-P